INTERNATIONAL TRADE COMMISSION

[USITC SE-17-012]

Government in the Sunshine Act Meeting Notice

Agency Holding the Meeting: United States International Trade Commission.

Time and Date: March 30, 2017 at 11:00 a.m.

Place: Room 101, 500 E Street SW., Washington, DC 20436, Telephone: (202) 205-2000.

Status: Open to the public.

Matters To Be Considered

1. Agendas for future meetings: None.

2. Minutes.

3. Ratification List.

4. Vote in Inv. No. 731-TA-1314 (Final) (Phosphor Copper from Korea). The Commission is currently scheduled to complete and file its determination and views of the Commission by April 17, 2017.

5. Outstanding action jackets: None.

In accordance with Commission policy, subject matter listed above, not disposed of at the scheduled meeting, may be carried over to the agenda of the following meeting.

By order of the Commission.
Issued: March 21, 2017.
William R. Bishop,
Supervisory Hearings and Information Officer.

[FR Doc. 2017-05893 Filed 3-21-17; 4:15 pm]

BILLING CODE 7020-02-P